DEPARTMENT OF THE INTERIOR

Bureau of Land Management

[AZ-320-08-1330-NJ; AZA 033922]

Arizona: Temporary Closure of Public Lands; Yuma Field Office

AGENCY: Bureau of Land Management, Interior.

ACTION: Temporary closure of public lands in La Paz County, Arizona.

SUMMARY: The Bureau of Land Management (BLM), Yuma Field Office, announces the temporary closure of selected public lands under its administration in La Paz County, Arizona. The area affected by this closure is the location of a former mineral material site that is the subject of an ongoing mineral material trespass investigation. The site in its current condition presents numerous physical hazards to the public including open pits, steep drop-offs, and unstable slopes. This action is taken to provide for public safety, prevent theft, and protect natural and cultural resources.

EFFECTIVE DATES: Effective immediately until mineral material trespass investigation is resolved.

FOR FURTHER INFORMATION CONTACT: Bruce Rittenhouse, Assistant Field Manager, Yuma Field Office, Bureau of Land Management, 2555 E. Gila Ridge Road, Yuma, Arizona, 85365, Telephone: 928-317-3200.

SUPPLEMENTARY INFORMATION: This closure applies to public lands directly affected by a mineral material trespass investigation as described below:

Gila and Salt River Meridian, Arizona

T. 4 N., R. 18 W.,

Sec. 25, W½W½SW¼;

Sec. 26, S½S½NE¼, SE¼.

The areas described contain 240 acres in La Paz County.

Marking and effect of closure: BLM lands to be temporarily closed to public use will be identified with appropriate signage. A closure notice will be posted at the BLM Yuma Field Office, the La Posa Long-Term Visitor Area, and the five 14-day camping areas around Quartzsite, Arizona. Uses that may be affected by this closure include, but are not limited to, vehicular access (on-road and off-road), hiking, camping, hunting, and rockhounding,

Exceptions: Closure restrictions do not apply to: (1) Medical/rescue, law enforcement, and fire fighting personnel; (2) any BLM employee, agent, contractor, or cooperator while in the performance of an official duty.

Authority: 43 CFR 8364.1.

Penalties. Any person failing to comply with this closure order may be subject to imprisonment not to exceed 12 months; and/or a fine not to exceed $1,000 in accordance with the applicable provisions of 18 U.S.C. 3571.

Dated: October 17, 2007.
Bruce Rittenhouse,
Assistant Field Manager for Resources, Lands, and Minerals and Acting Field Manager.

[FR Doc. E7-21289 Filed 10-29-07; 8:45 am]

BILLING CODE 4310-32-P